FEDERAL COMMUNICATIONS COMMISSION

47 CFR Part 73

[MB Docket No. 19-18; RM-11823; DA 19-225]

Television Broadcasting Services Gadsden and Hoover, Alabama

AGENCY: Federal Communications Commission.

ACTION: Final rule.

SUMMARY: At the request of ION Media License Company, LLC. (ION), licensee of television station WPXH-TV, channel 45, Gadsden, Alabama (WPXH), the Commission has before it an unopposed Notice of Proposed Rulemaking to amend the Post-Transition Table of DTV Allotments by changing WPXH's community of license from Gadsden to Hoover, Alabama. The Commission believes that the proposed reallotment is consistent with the Commission's second allotment priority by providing Hoover with its first local transmission service. The Commission also notes that the proposed reallotment will not deprive Gadsden of its sole broadcast station because it will continue to be served by station WTJP-TV, licensed to Trinity Christian Center of Santa Ana, Inc. on channel 26 at Gadsden. We also grant ION's requested waiver of the Commission's rules.

DATES: Effective April 8, 2019.

FOR FURTHER INFORMATION CONTACT: Joyce Bernstein, Media Bureau, at Joyce.Bernstein@fcc.gov.

SUPPLEMENTARY INFORMATION: This is a synopsis of the Commission's Report and Order, MB Docket No. 19-18; RM-11823; DA 19-225, adopted March 28, 2019, and released March 28, 2019. The full text of this document is available for public inspection and copying during normal business hours in the FCC's Reference Information Center at Portals II, CY-A257, 445 12th Street SW, Washington, DC, 20554, or online at http://apps.fcc.gov/ecfs/. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 303, 334, 336, and 339.

§ 73.622 [Amended]

2. Section 73.622(i), the Post-Transition Table of DTV Allotments under Alabama, is amended by removing Gadsden, channel 45, and adding, in alphabetical order, Hoover, channel 45.

[FR Doc. 2019-06674 Filed 4-5-19; 8:45 am]

BILLING CODE 6712-01-P